FEDERAL COMMUNICATIONS COMMISSION

[GN Docket No. 00-185; FCC 02-77]

Inquiry Concerning High-Speed Access to the Internet Over Cable and Other Facilities; Internet Over Cable Declaratory Ruling

AGENCY: Federal Communications Commission.

ACTION: Notice.

SUMMARY: On March 15, 2002, the Commission released a Declaratory Ruling in Inquiry Concerning High-Speed Access to the Internet Over Cable and Other Facilities and Internet Over Cable Declaratory Ruling, GN Docket No. 00-185. The Commission ruled that cable modem service, as it is currently offered, is an interstate information service, not a cable service, and that there is no separate offering of telecommunications service. Consistent with §§ 1.103 and 1.4(b)(2) of the Commission's rules, 47 CFR 1.103, 1.4(b)(2), the effective date for the Declaratory Ruling is the date of release of the ruling, March 15, 2002.

Copies of the Declaratory Ruling may be obtained on the Internet through http://www.fcc.gov/Bureaus/Cable/News_Releases/2002/nrcb0201.html, or through Steve Garner, Media Bureau, who can be reached at (202) 418-1063 or via Internet at sgarner@fcc.gov.

FOR FURTHER INFORMATION CONTACT: Steve Garner, Media Bureau, at (202) 418-1063 or via Internet at sgarner@fcc.gov.

Federal Communications Commission.
William F. Caton,
Acting Secretary.

[FR Doc. 02-9103 Filed 4-16-02; 8:45 am]

BILLING CODE 6712-01-P